DEPARTMENT OF COMMERCE

International Trade Administration

[A-570-051, C-570-052]

Certain Hardwood Plywood Products From the People's Republic of China: Preliminary Scope Determination and Affirmative Preliminary Determination of Circumvention of the Antidumping and Countervailing Duty Orders

AGENCY: Enforcement and Compliance, International Trade Administration, Department of Commerce.

SUMMARY: The U.S. Department of Commerce (Commerce) preliminarily determines that certain hardwood plywood products and veneered panels (hardwood plywood) exported from the Socialist Republic of Vietnam (Vietnam), which were assembled in Vietnam using hardwood plywood inputs sourced from the People's Republic of China (China) are products of China and are subject to the antidumping duty (AD) and countervailing duty (CVD) orders on hardwood plywood from China. Additionally, Commerce preliminarily determines that certain hardwood plywood assembled in Vietnam using hardwood plywood inputs sourced from China are circumventing the AD and CVD orders on hardwood plywood from China.

DATES: Applicable July 29, 2022.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On January 4, 2018, Commerce issued the Orders on imports of hardwood plywood from China.¹ On February 25, 2020, the Coalition for Fair Trade in Hardwood Plywood (the petitioner) alleged that imports of hardwood plywood that was assembled in Vietnam using core veneers, multi-ply core veneered panels, and/or veneer core platforms sourced from China are circumventing the Orders.² In their allegation, the petitioner requested that Commerce issue a scope ruling that certain hardwood plywood completed in Vietnam using hardwood plywood inputs manufactured in China, and imported into the United States as Vietnamese-origin plywood is within the scope of the Orders. In the alternative, the petitioner requested that Commerce initiate an anti-circumvention inquiry, pursuant to section 781(b) of the Tariff Act of 1930, as amended (the Act), and 19 CFR 351.225(h),³ to determine whether these products constitute merchandise completed or assembled in a third country that is circumventing, and should be included within, the scope of the Orders.

¹ See Certain Hardwood Plywood Products from the People's Republic of China: Amended Final Determination of Sales at Less Than Fair Value, and Antidumping Duty Order, 83 FR 504 (January 4, 2018); and Certain Hardwood Plywood Products from the People's Republic of China: Countervailing Duty Order, 83 FR 513 (January 4, 2018) (collectively, the Orders).

² See Petitioner's Letter, “Certain Hardwood Plywood Products from The People's Republic of China: Request from Scope Ruling/Anti-Circumvention ruling,” dated February 25, 2020 (Petitioner's Request).

³ Commerce significantly revised its scope regulations on September 20, 2021, with an effective date of November 4, 2021. See Regulations to Improve Administration and Enforcement of Antidumping and Countervailing Duty Laws, 86 FR 52300 (September 20, 2021). The amendments to 19 CFR 351.225 apply to scope inquiries for which a scope ruling application is filed, as well as any scope inquiry self-initiated by Commerce, on or after November 4, 2021. The newly promulgated 19 CFR 351.226 applies to circumvention inquiries for which a circumvention request is filed, as well as any circumvention inquiry self-initiated by Commerce, on or after November 4, 2021. We note that these scope and circumvention inquiries were initiated prior to the effective date of the new regulations, and, thus, any reference to the regulations is to the prior version of the regulations.

On June 17, 2020, Commerce published in the Federal Register the notice of initiation of these scope and anti-circumvention inquiries.⁴ In that notice Commerce explained that it intended to examine the scope inquiry request filed by the petitioner under 19 CFR 351.225(c) as part of this anti-circumvention inquiry, and that we will make a final finding with regard to the scope inquiry to determine whether any of the production scenarios identified by the petitioner are already properly considered subject to the scope of the Orders.⁵

⁴ See Certain Hardwood Plywood Products from the People's Republic of China: Initiation of Anti-circumvention Inquiries and Scope Inquiries on the Antidumping Duty and Countervailing Duty Orders; Vietnam Assembly, 85 FR 36530 (June 17, 2020) (Initiation Notice).

⁵ Id., 85 FR at 36533.

On April 15, 2022, Commerce extended the deadline to issue a final determination in these inquiries to October 17, 2022.⁶ For a complete description of the events that followed the initiation of this investigation, see the Preliminary Decision Memorandum.⁷ A list of topics included in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Extension of Deadline,” dated April 18, 2022.

⁷ See Memorandum, “Preliminary Decision Memorandum for the Anti-Circumvention and Scope Inquiries on the Antidumping Duty and Countervailing Duty Orders on Certain Harwood Plywood Products from the People's Republic of China,” dated concurrently with, and hereby adopted by, this notice (Preliminary Decision Memorandum).

Scope of the Orders

The products subject to these Orders are hardwood and decorative plywood, and certain veneered panels. For a full description of the scope, see the Preliminary Decision Memorandum.

Merchandise Subject to the Scope and Anti-Circumvention Inquiries

These scope and anti-circumvention inquiries cover hardwood plywood exported to the United States that was completed in Vietnam using: (1) face/back veneers and assembled core components (e.g., veneer core platforms) manufactured in China; (2) fully assembled veneer core platforms manufactured in China and face/back veneer produced in Vietnam or third countries; (3) multi-ply panels of glued core veneers manufactured in China and combined in Vietnam to produce veneer core platforms and combined with either face and/or back veneer produced in China, Vietnam, or a third country; (4) face/back veneers and individual core veneers produced in China; and (5) individual core veneers manufactured in China and processed into a veneer core platform ⁸ in Vietnam and combined with face/back veneer produced in Vietnam or a third country.

⁸ A veneer core platform is defined as two or more wood veneers that form the core of an otherwise completed hardwood plywood product (i.e., a hardwood plywood product to which the outer (face and back) veneers have not yet been affixed). See Petitioner's Request at Exhibit 11.

Scope Determination

As detailed in the Preliminary Decision Memorandum, we preliminarily determine that hardwood plywood produced under three of the five production scenarios that are subject to these inquiries are covered by the scope of the Orders. Specifically, these in-scope products include hardwood plywood exported to the United States that is composed of: (1) face veneer, back veneer, and assembled core components (e.g., veneer core platforms) manufactured in China and assembled in Vietnam; (2) fully assembled veneer core platforms manufactured in China that are combined in Vietnam with face and/or back veneers produced in Vietnam or third countries; and (3) multi-ply panels of glued core veneers manufactured in China that are combined in Vietnam to produce veneer core platforms and combined with either a face and/or back veneer produced in China, Vietnam, or a third country. In reaching this determination we relied, in part, on our recent Finewood Scope Ruling, in which we determined that the country of origin of plywood is imparted at the location where the veneers are first glued/assembled,⁹ as well as additional record evidence and analysis.¹⁰

⁹ See Memorandum, “Placing Documents Relevant to this Proceeding on the Record,” dated February 18, 2022, at Attachment (Memorandum, “Antidumping Duty and Countervailing Duty Orders on Certain Hardwood Plywood Products from the People's Republic of China, Enforcement and Protect Act (EAPA) Investigation No. 7252: Final Scope Ruling,” dated January 21, 2022 (Finewood Scope Ruling)).

¹⁰ See Preliminary Decision Memorandum.

As a result, we preliminarily determine that this merchandise is within the Orders and will instruct U.S. Customs and Border Protection (CBP) to suspend entries of hardwood plywood from Vietnam, which were assembled in Vietnam under the three production scenarios above. To administer this preliminary affirmative scope determination, exporters and importers of hardwood plywood completed in Vietnam using non-Chinese origin hardwood plywood inputs will be permitted to certify that the exported products were not produced under any of the three scenarios that result in subject merchandise. If an importer files such certifications, it will be required to maintain those certifications and supporting documentation to provide to CBP and/or Commerce upon request.¹¹ Properly certified entries are not subject to AD and CVD duties under the Orders. Exemption from AD and CVD duties under the Orders is permitted only if the certification and documentation requirements specified in Appendix II are met.

¹¹ The importer certification is provided at Appendix III and the exporter certification is provided at Appendix IV.

Affirmative Preliminary Determination of Circumvention

As detailed in the Preliminary Decision Memorandum, we preliminarily determine that products produced under the remaining two of the five production scenarios that are subject to these inquiries are circumventing the Orders. Specifically, these products include hardwood plywood exported to the United States that was assembled in Vietnam and composed of: (1) face/back veneers and individual core veneers produced in China; and (2) individual core veneers manufactured in China and processed into a veneer core platform in Vietnam and combined with face/back veneer produced in Vietnam or a third country.

As a result, we preliminarily determine that it is also appropriate to include this merchandise within the Orders and to instruct CBP to suspend entries of hardwood plywood from Vietnam, which were assembled in Vietnam under the two production scenarios above. To administer this preliminary affirmative determination of circumvention, exporters and importers of hardwood plywood completed in Vietnam using non-Chinese origin hardwood plywood inputs will be permitted to certify that the exported products were not produced under either of the two scenarios that result in merchandise circumventing the Orders. As noted above, if an importer files such certifications, it will also be required to maintain the certifications and supporting documentation to provide to CBP and/or Commerce upon request.¹² Properly certified entries are not subject to AD and CVD duties under the Orders. Exemption from AD and CVD duties under the Orders is permitted only if the certification and documentation requirements specified in Appendix II are met.

¹² The importer certification is provided at Appendix III and the exporter certification is provided at Appendix IV.

Methodology

Commerce made these preliminary scope and circumvention findings in accordance with section 781(b) of the Act and 19 CFR 351.225(g). We relied on information placed on the record by the petitioner and the Government of Vietnam, and information we placed on the record. We also relied on the facts available under section 776(a) of the Act, including facts available with adverse inferences under section 776(b) of the Act, where appropriate.

In particular, we requested information from numerous companies in Vietnam in conducting these inquiries. While we received responses from the majority of these companies, 14 companies failed to respond to our initial questionnaire and/or a supplemental questionnaire and an additional 22 companies provided information that either contained significant discrepancies and inconsistencies or was misleading.¹³ Therefore, we preliminarily find that these 36 companies withheld information, failed to provide information by the deadline or in the form and manner requested, and significantly impeded these inquiries. Thus, we find that they failed to cooperate to the best of their abilities; thereby, we have used adverse inferences when selecting from among the facts otherwise available on the record for certain aspects of this preliminary determination, pursuant to sections 776(a) and (b) of the Act. As adverse facts available, we have preliminarily determined that these 36 companies produce hardwood plywood under all five of the production scenarios subject to these inquiries. Additionally, we preliminarily determine that these 36 companies ¹⁴ are precluded from participating in the certification program we are establishing for applicable exports of hardwood plywood from Vietnam. For a full description of the methodology underlying the preliminary determination, see the Preliminary Decision Memorandum.

¹³ See Appendix V for a list of companies that either failed to respond to our requests for information or provided unreliable information.

¹⁴ Id.

Suspension of Liquidation

In accordance with 19 CFR 351.225(l)(2), for entries of hardwood plywood from Vietnam that were produced under any of the three production scenarios that we preliminarily determined are subject merchandise, Commerce will instruct CBP to continue to suspend liquidation and require a cash deposit of estimated duties, at the applicable rate, that are entered, or withdrawn from warehouse, for consumption on or after June 17, 2020, the date of publication of initiation of the scope inquiries in the Federal Register.¹⁵ Similarly, for entries of hardwood plywood from Vietnam that were produced under either of the two production scenarios that we preliminarily determined are circumventing the Orders, and therefore should be included within the Orders, we will instruct CBP to suspend liquidation and require a cash deposit of estimated duties, at the applicable rates, that are entered, or withdrawn from warehouse, for consumption on or after June 17, 2020, the date of publication of initiation of the anti-circumvention inquiries in the Federal Register.¹⁶

¹⁵ See Initiation Notice.

¹⁶ Id.

Where companies subject to these inquiries have their own company-specific rate under the Orders, the cash deposit rate will be the company-specific rate. Otherwise, Commerce will instruct CBP to require AD cash deposits equal to the China-wide rate of 183.36 percent and CVD cash deposits equal to the all-others rate of 22.98 percent.

Hardwood plywood assembled in Vietnam under scenarios other than the five production scenarios identified above are not subject to these inquiries. Therefore, cash deposits are not required for such merchandise, subject to the following certification requirements.¹⁷ Note that, as further described below, the 36 non-cooperative exporters listed in Appendix V are not eligible to participate in this certification program.¹⁸

¹⁷ See Appendix II for the certification requirements and Appendix III for the importer certification.

¹⁸ See Preliminary Decision Memorandum at “Use of Facts Available with an Adverse Inference”; and, e.g., Anti-circumvention Inquiry of the Antidumping Duty Order on Certain Pasta from Italy: Affirmative Preliminary Determination of Circumvention of the Antidumping Duty Order, 63 FR 18364, 18366 (April 15, 1998), unchanged in Anti-Circumvention Inquiry of the Antidumping Duty Order on Certain Pasta from Italy: Affirmative Final Determination of Circumvention of the Antidumping Duty Order, 63 FR 54672, 54675-76 (October 13, 1998).

If an importer of hardwood plywood assembled in Vietnam claims that the hardwood plywood was not produced using any of the Chinese hardwood plywood input scenarios subject to these inquiries, the importer and exporter must meet the certification and documentation requirements described in Appendix II. An exporter of hardwood plywood assembled in Vietnam claiming that its hardwood plywood was not produced using any of the Chinese hardwood plywood input scenarios subject to these inquiries must prepare and maintain an Exporter Certification and documentation supporting the exporter certification (see Appendix IV). In addition, importers of such hardwood plywood must prepare and maintain an importer certification (see Appendix III) as well as documentation supporting the importer certification. Besides the importer certification, the importer must also maintain a copy of the exporter certification (see Appendix IV), and relevant supporting documentation from its exporter of hardwood plywood assembled in Vietnam that was not produced using any of the Chinese hardwood plywood input scenarios subject to these inquiries.

Verification

As provided in 19 CFR 351.307, Commerce intends to verify information relied upon in making its final determination.

Public Comment

Case briefs or other written comments may be submitted to the Assistant Secretary for Enforcement and Compliance. Commerce will notify interested parties of the timeline for the submission of case briefs and written comments at a later date. Rebuttal briefs, limited to issues raised in case briefs, may be submitted no later than seven days after the deadline for case briefs.¹⁹ Pursuant to 19 CFR 351.309(c)(2) and (d)(2), parties who submit case briefs or rebuttal briefs in these scope and anti-circumvention inquiries are encouraged to submit with each argument: (1) a statement of the issue; (2) a brief summary of the argument; and (3) a table of authorities. Note that Commerce has temporarily modified certain of its requirements for serving documents containing business proprietary information, until further notice.²⁰

¹⁹ See 19 CFR 351.309; see also 19 CFR 351.303 (for general filing requirements).

²⁰ See Temporary Rule Modifying AD/CVD Service Requirements Due to COVID-19, 85 FR 17006 (March 26, 2020); and Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) the party's name, address, and telephone number; (2) the number of participants; (3) whether any participant is a foreign national; and (4) a list of the issues to be discussed. If a request for a hearing is made, Commerce intends to hold the hearing at a time and date to be determined. Parties should confirm by telephone the date, time, and location of the hearing two days before the scheduled date.

International Trade Commission Notification

Commerce, consistent with section 781(e) of the Act, has notified the International Trade Commission (ITC) of this preliminary determination to include the merchandise subject to these anti-circumvention inquiries within the Orders. Pursuant to section 781(e) of the Act, the ITC may request consultations concerning Commerce's proposed inclusion of the inquiry merchandise. If, after consultations, the ITC believes that a significant injury issue is presented by the proposed inclusion, it will have 60 days from the date of notification by Commerce to provide written advice.

Notification to Interested Parties

This determination is issued and published in accordance with section 781(b) of the Act and 19 CFR 351.225(f) and (h).

Dated: July 22, 2022.
Lisa W. Wang,
Assistant Secretary for Enforcement and Compliance.

Appendix I

List of Topics Discussed in the Preliminary Decision Memorandum

I. Summary

II. Background

III. Scope of the Orders

IV. Merchandise Subject to the Scope and Anti-Circumvention Inquiries

V. Period of the Scope and Anti-Circumvention Inquiries

VI. Statutory Framework

VII. Use of Facts Available with an Adverse Inference

VIII. Scope and Anti-Circumvention Determinations

IX. Country-Wide Determination

X. Certification Requirement

XI. Recommendation

Appendix II

Certification Requirements

If a company imports hardwood plywood from the Socialist Republic of Vietnam (Vietnam) and claims that the hardwood plywood was completed in Vietnam using a production scenario other than those subject to these inquiries, the importer is required to complete and maintain the importer certification, attached as Appendix III, and retain all supporting documentation. The importer is further required to maintain a copy of the exporter certification, attached as Appendix IV, and retain all supporting documentation. The importer certification must be completed, signed, and dated by the time of filing of the entry summary for the relevant importation. Where the importer uses a broker to facilitate the entry process, it should obtain the entry summary number from the broker. Agents of the importer, such as brokers, however, are not permitted to make this certification on behalf of the importer.

The exporter is required to complete and maintain the exporter certification, attached as Appendix IV, and is further required to provide the importer a copy of that certification and all supporting documentation (e.g., invoice, purchase order, production records, etc.). The exporter certification must be completed, signed, and dated by the time of shipment of the relevant entries (except as noted below). The exporter certification should be completed by the party selling the subject merchandise manufactured in Vietnam to the United States.

The importer will not be required to submit the certifications or supporting documentation to U.S. Customs and Border Protection (CBP) as part of the entry process. However, the importer and exporter will be required to present the certifications, and supporting documentation, to the Department of Commerce and/or U.S. Customs and Border Protection (CBP), as applicable, upon request by the respective agency. Additionally, the claims made in the certifications and any supporting documentation are subject to verification by Commerce and/or CBP. The importer and exporter are required to maintain the certifications and supporting documentation for the later of: (1) a period of five years from the date of entry; or (2) a period of three years after the conclusion of any litigation in United States courts regarding such entries.

For hardwood plywood completed in Vietnam under the two production scenarios subject to these inquiries that we have found to be circumventing the Orders, Commerce has established the following third-country case numbers in the Automated Commercial Environment (ACE): A-552-006 and C-552-007.

If it is determined that the certification and/or documentation requirements in a certification have not been met, Commerce intends to instruct CBP to suspend, under the antidumping duty (AD) and countervailing duty (CVD) Orders ²¹ on hardwood plywood from the People's Republic of China, A-570-051/C-570-052 or A-552-006/C-552-007, all unliquidated entries for which these requirements were not met and require the importer to post applicable AD and CVD cash deposits equal to the rates as determined by Commerce. Entries suspended under A-570-051/C-570-052 or A-552-006/C-552-007 will be liquidated pursuant to applicable administrative reviews of the Orders or through the automatic liquidation process.

²¹ See Certain Hardwood Plywood Products from the People's Republic of China: Amended Final Determination of Sales at Less Than Fair Value, and Antidumping Duty Order, 83 FR 504 (January 4, 2018); and Certain Hardwood Plywood Products from the People's Republic of China: Countervailing Duty Order, 83 FR 513 (January 4, 2018) (collectively, the Orders).

For entries suspended pursuant to the preliminary determination of these scope and anti-circumvention inquiries that were shipped and/or entered, or withdrawn from warehouse, for consumption during the period, June 17, 2020 (the date of initiation of these scope and anti-circumvention inquiries) through the date of publication of the preliminary determination in the Federal Register, for which certifications are required, the exporter certifications should be completed as soon as practicable, but not later than 45 days after publication of the preliminary determination in the Federal Register. Accordingly, the relevant paragraph in the certification should be edited to reflect that the certification was completed within this time frame. Specifically, exporters should complete the language in paragraph G in the exporter certification that reads: “The shipments/products referenced herein shipped before mm/dd/yyyy, the date on which Commerce published notice of its preliminary scope and anti-circumvention findings in the Federal Register. This certification was completed on mm/dd/yyyy, within 45 days of the Federal Register notice publication.” For such entries, exporters each have the option to complete a blanket certification covering multiple entries, individual certifications for each entry, or a combination thereof. The exporter certifications should be maintained by both the importer and exporter and provided to CBP or Commerce only upon request by the respective agency. The exporter must provide the importer a copy of the exporter certification within 45 days of the publication of the preliminary determination in the Federal Register.

For unliquidated entries (and entries for which liquidation has not become final) of merchandise entered as non-AD/CVD type entries (e.g. type 01) that were shipped and/or entered, or withdrawn from warehouse, for consumption in the United States during the period, June 17, 2020 (the date of initiation of these scope and anti-circumvention inquiries) through the date of publication of the preliminary determination in the Federal Register, manufactured using any of the production scenarios subject to these inquiries, importers should file a Post Summary Correction with CBP, in accordance with CBP's regulations, regarding conversion of such entries from non-AD/CVD type entries to AD/CVD type entries (e.g., type 01 to type 03). For such shipments, the exporter certifications should be completed as soon as practicable, but not later than 45 days after publication of the preliminary determination in the Federal Register. Importers should report those AD/CVD type entries that were produced under production scenarios 1, 2, or 3, which we have found to be covered by the scope of the Orders, under the case numbers for the Orders on hardwood plywood from the People's Republic of China, A-570-051/C-570-052. Importers should report those AD/CVD type entries that were produced under production scenarios 4 or 5, which we have found to be circumventing the Orders, using the third-country case numbers, A-552-006/C-552-007. Similarly, the importer should pay cash deposits on those entries consistent with the regulations governing post summary corrections that require payment of additional duties.

Appendix III

IMPORTER CERTIFICATION

I hereby certify that:

(A) My name is {IMPORTING COMPANY OFFICIAL'S NAME} and I am an official of {NAME OF IMPORTING COMPANY}, located at {ADDRESS OF IMPORTING COMPANY}.

(B) I have direct personal knowledge of the facts regarding the importation into the Customs territory of the United States of the hardwood plywood completed in Vietnam that entered under entry summary number(s), identified below, and are covered by this certification. “Direct personal knowledge” refers to facts the certifying party is expected to have in its own records. For example, the importer should have “direct personal knowledge” of the importation of the product (e.g., the name of the exporter) in its records;

(C) I have personal knowledge of the facts regarding the production of the imported products covered by this certification. “Personal knowledge” includes facts obtained from another party, (e.g., correspondence received by the importer (or exporter) from the producer regarding the source of the hardwood plywood inputs used to produce the imported products);

(D) This certification applies to the following entries (repeat this block as many times as necessary):

Entry Summary #:

Entry Summary Line Item #:

Foreign Seller:

Foreign Seller's Address:

Foreign Seller's Invoice #:

Foreign Seller's Invoice Line Item #:

Country of Origin of core veneers/veneered panels/veneer core platforms:

(E) The hardwood plywood completed in Vietnam was not produced under any of the production scenarios subject to these certifications:

1. Face veneer, back veneer, and assembled core components (e.g., veneer core platforms (see note below)) manufactured in China and assembled in Vietnam;

2. Fully assembled veneer core platforms manufactured in China that are combined in Vietnam with face and/or back veneers produced in Vietnam or third countries;

3. Multi-ply panels of glued core veneers manufactured in China that are combined in Vietnam to produce veneer core platforms and combined with either a face and/or back veneer produced in China, Vietnam, or a third country;

4. Face veneer, back veneer, and individual core veneers produced in China and assembled into hardwood plywood in Vietnam; and

5. Individual core veneers manufactured in China and processed into a veneer core platform in Vietnam and combined with a face and/or back veneer produced in Vietnam or other third country;

Note: A veneer core platform is defined as two or more wood veneers that form the core of an otherwise completed hardwood plywood product (i.e., a hardwood plywood product to which the outer (face and back) veneers have not yet been affixed).

(F) I understand that {IMPORTING COMPANY} is required to maintain a copy of this certification and sufficient documentation supporting this certification (i.e., documents maintained in the normal course of business, or documents obtained by the certifying party, for example, certificates of origin, production records, invoices, USDA Plant and Plant Product Declaration Form etc.) for the later of (1) a period of five years from the date of entry or (2) a period of three years after the conclusion of any litigation in the United States courts regarding such entries;

(G) I understand that {IMPORTING COMPANY} is required to provide this certification and supporting records, upon request, to U.S. Customs and Border Protection (CBP) and/or the Department of Commerce (Commerce);

(H) I understand that {IMPORTING COMPANY} is required to maintain a copy of the exporter's certification (attesting to the production and/or export of the imported merchandise identified above) and supporting documentation, for the later of (1) a period of five years from the date of entry or (2) a period of three years after the conclusion of any litigation in United States courts regarding such entries;

(I) I understand that {IMPORTING COMPANY} is required to maintain and provide a copy of the exporter's certification and supporting documentation, upon request, to CBP and/or Commerce;

(J) I understand that the claims made herein, and the substantiating documentation, are subject to verification by CBP and/or Commerce;

(K) I understand that failure to maintain the required certification and supporting documentation and/or failure to substantiate the claims made herein and/or failure to allow CBP and/or Commerce to verify the claims made herein, may result in a de facto determination that all entries to which this certification applies are within the scope of the antidumping/countervailing duty orders on hardwood plywood from China. I understand that such finding will result in:

○ suspension of liquidation of all unliquidated entries (and entries for which liquidation has not become final) for which these requirements were not met;

○ the requirement that the importer post applicable antidumping duty and/or countervailing duty cash deposits (as appropriate) equal to the rates determined by Commerce; and

○ the revocation of {NAME OF IMPORTING COMPANY}'s privilege to certify that future imports of hardwood plywood are not produced under any of the production scenarios subject to these certifications.

(L) I understand that agents of the importer, such as brokers, are not permitted to make this certification;

(M) This certification was completed by the time of filing the entry summary or within 45 days of the date on which Commerce published notice of its preliminary scope and anti-circumvention findings in the Federal Register; and

(N) I am aware that U.S. law (including, but not limited to, 18 U.S.C. 1001) imposes criminal sanctions on individuals who knowingly and willfully make material false statements to the U.S. government.

Signature

{NAME OF COMPANY OFFICIAL}

{TITLE}

{DATE}

Appendix IV

EXPORTER CERTIFICATION

I hereby certify that:

(A) My name is {COMPANY OFFICIAL'S NAME} and I am an official of {NAME OF EXPORTING COMPANY}, located at {ADDRESS OF EXPORTING COMPANY}.

(B) I have direct personal knowledge of the facts regarding the production and exportation in the Customs territory of the United States of the hardwood plywood identified below. “Direct personal knowledge” refers to facts the certifying party is expected to have in its own books and records. For example, an exporter should have “direct personal knowledge” of the producer's identity and location;

(C) The hardwood plywood completed in Vietnam was not produced under any of the following production scenarios:

1. Face veneer, back veneer, and assembled core components (e.g., veneer core platforms (see note below) manufactured in China and assembled in Vietnam;

2. Fully assembled veneer core platforms manufactured in China that are combined in Vietnam with face and/or back veneers produced in Vietnam or third countries;

3. Multi-ply panels of glued core veneers manufactured in China that are combined in Vietnam to produce veneer core platforms and combined with either a face and/or back veneer produced in China, Vietnam, or a third country;

4. Face veneer, back veneer, and individual core veneers produced in China and assembled into hardwood plywood in Vietnam; and

5. Individual core veneers manufactured in China and processed into a veneer core platform in Vietnam and combined with a face and/or back veneer produced in Vietnam or other third country;

Note: A veneer core platform is defined as two or more wood veneers that form the core of an otherwise completed hardwood plywood product (i.e., a hardwood plywood product to which the outer (face and back) veneers have not yet been affixed).

(D) This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer's Invoice # to Foreign Seller: (If the foreign seller and the producer are the same party, put NA here.)

Producer's Invoice # Foreign Seller: (If the foreign seller and the producer are the same party, put NA here.)

Name of core veneers/veneered panel/veneer core platform producer:

(E) The hardwood plywood products covered by this certification were shipped to {NAME OF U.S. PARTY TO WHOM MERCHANDISE WAS SHIPPED}, located at {U.S. ADDRESS TO WHICH MERCHANDISE WAS SHIPPED}.

(F) I understand that {NAME OF EXPORTING COMPANY} is required to maintain a copy of this certification and sufficient documentation supporting this certification (i.e., documents maintained in the normal course of business, or documents obtained by the certifying party, for example, production records, invoices, etc.) for the later of: (1) a period of five years from the date of entry; or (2) a period of three years after the conclusion of any litigation in the United States courts regarding such entries;

(G) I understand that {NAME OF EXPORTING COMPANY} must provide this Exporter Certification to the U.S. importer by the time of shipment. {Or}

The shipments/products referenced herein shipped before the mm/dd/yyyy, the date on which Commerce published notice of its preliminary scope and anti-circumvention findings in the Federal Register. This certification was completed on mm/dd/yyyy, within 45 days of the Federal Register notice publication;

(H) I understand that failure to maintain the required certification and supporting documentation, failure to substantiate the claims made herein, and/or failure to allow CBP and/or Commerce to verify the claims made herein, may result in a de facto determination that all entries to which this certification applies are within the scope of the antidumping (AD)/countervailing duty (CVD) orders on hardwood plywood from China. I understand that such a finding will result in:

(i) suspension of all unliquidated entries (and entries for which liquidation has not become final) for which these requirements were not met;

(ii) the requirement that the importer post applicable AD and/or CVD cash deposits (as appropriate) equal to the rates as determined by Commerce; and

(iii) the revocation of {NAME OF EXPORTING COMPANY}'s privilege to certify that future imports of hardwood plywood are not produced under any of the production scenarios subject to these certifications.

(J) This certification was completed at time of shipment or within 45 days of the date on which Commerce published notice of its preliminary scope and anti-circumvention findings in the Federal Register;

(K) I am aware that U.S. law (including, but not limited to, 18 U.S.C. 1001) imposes criminal sanctions on individuals who knowingly and willfully make material false statements to the U.S. government.

Signature

{NAME OF COMPANY OFFICIAL}

{TITLE}

{DATE}

Appendix V

Companies That Failed To Cooperate

1. An An Plywood Joint Stock Company

2. Arrow Forest International Co., Ltd

3. BAC Son Woods Processing Joint Stock Company

4. BHL Thai Nguyen Corp.

5. Eagle Industries Company Limited

6. Golden Bridge Industries Pte. Ltd.

7. Govina Investment Joint Stock Company

8. Greatriver Wood Co. Ltd.

9. Greatwood Hung Yen Joint Stock Company

10. Groll Ply and Cabinetry

11. Hai Hien Bamboo Wood Joint Stock Company

12. Her Hui Wood (Vietnam) Co., Ltd.

13. Hoang LAM Plywood Joint Stock Co.

14. Huong Son Wood Group Co., Ltd.

15. Innovgreen Thanh Hoa Co. Ltd.

16. Lechenwood Viet Nam Company Limited

17. Long LUU Plywood Production Co., Ltd.

18. Long Phat Construction Investment and Trade Joint Stock Company

19. Plywood Sunshine Ltd. Co.

20. Quang Phat Woods JSC

21. TEKCOM Corporation

22. Win Faith Trading

Companies That Failed To Respond

1. Bao Yen MDF Joint Stock Company

2. BHL Vietnam Investment and Development

3. Dong Tam Production Trading Company Limited

4. Greatwood Company Limited

5. Linwood Vietnam Co. Ltd

6. Quoc Thai Forestry Import Export Limited Company

7. Rongjia Woods Vietnam Company Limited

8. Sumec Huongson Wood Group Co. Ltd.

9. Tan Tien Co. Ltd

10. Thang Long Wood Panel Company Ltd.

11. Thanh Hoa Stone Export Company

12. Truong Son North Construction JSC

13. Vietind Co. Ltd.

14. Vietnam Golden Timber Company Limited

[FR Doc. 2022-16307 Filed 7-28-22; 8:45 am]

BILLING CODE 3510-DS-P